SOCIAL SECURITY ADMINISTRATION

The Ticket to Work and Work Incentives Advisory Panel Meeting

AGENCY: Social Security Administration (SSA).

ACTION: Notice of meeting.

DATES: August 21, 2001, 10 a.m.-5 p.m. Pacific Time (PT), August 22, 2001, 9 a.m.-5 p.m. PT, August 23, 2001, 9 a.m.-4 p.m. PT.

ADDRESSES: Doubletree Hotel—Portland Downtown, 310 SW Lincoln Street, Portland, OR 97201, Phone: (503) 221-0450, Fax: (503) 226-6260.

The hotel is located in downtown Portland and 25 minutes from the airport. The hotel offers complimentary shuttle service to/from the airport. Upon arriving at the airport, follow the signs to Baggage Claim and then follow the signs to hotel shuttle. Board the Doubletree Downtown-Lloyd Center shuttle.

SUPPLEMENTARY INFORMATION: Type of meeting: This is a quarterly meeting open to the public. The interested public is invited to participate by coming to the address listed above. Public comment will be taken. The public is also invited to submit comments in writing on the implementation of the Ticket to Work and Work Incentives Improvement Act (TWWIIA) of 1999 at any time.

Purpose: In accordance with section 10(a)(2) of the Federal Advisory Committee Act, the Social Security Administration (SSA) announces a meeting of the Ticket to Work and Work Incentives Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Agenda: The Panel will meet in person commencing Tuesday, August 21, 2001 from 10 a.m. to 5 p.m. PT; Wednesday, August 22, 2001 from 9 a.m. to 5 p.m. PT; and Thursday, August 23, 2001 from 9 a.m. to 4 p.m. PT. The Panel will use the meeting time to receive public testimony, hear presentations, conduct full Panel deliberations on the implementation of TWWIIA, hold committee meetings, receive briefings and conduct business. Public testimony will be heard in person on Wednesday, August 22, 2001 from 9:30 a.m. to 10:30 a.m. PT. The full agenda for the meeting will be posted on the Internet at http://www.ssa.gov/work/panel/ one week before the meeting or can be received in advance electronically or by fax upon request.

Individuals interested in providing testimony in person should contact the Panel staff as outlined in the “Contact Information” section below to schedule time slots. Each presenter will be called on by the Chair in the order in which they are scheduled to testify and is limited to a maximum five-minute verbal presentation. Full written testimony on TWWIIA Implementation, no longer than 5 pages, may be submitted in person or by mail, fax or e-mail on an on-going basis to the Panel for consideration. In the event that the public comments do not take up the scheduled time period for public comment, the Panel will use that time to deliberate and conduct other Panel business.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory Panel Staff, 400 Virginia Avenue, SW., Suite 700, Washington, DC 20024;

• Telephone contact with Kristen Breland at (202) 358-6423;

• Fax at (202) 358-6440;

• E-mail to TWWIIAPanel@ssa.gov.

Dated: July 9, 2001.
Deborah M. Morrison,
Designated Federal Officer.

[FR Doc. 01-17495 Filed 7-12-01; 8:45 am]

BILLING CODE 4191-02-P